DEPARTMENT OF COMMERCE

National Oceanic and Atmospheric Administration

RIN 0648-XG932

Fisheries of the Caribbean, Gulf of Mexico, and South Atlantic; Comprehensive Fishery Management Plans for the Exclusive Economic Zones of Puerto Rico, St. Thomas/St. John, St. Croix

AGENCY: National Marine Fisheries Service (NMFS), National Oceanic and Atmospheric Administration (NOAA), Commerce.

ACTION: Notice; Withdrawal of notice of intent to prepare draft environmental impact statements (EIS).

SUMMARY: The NMFS Southeast Region, in collaboration with the Caribbean Fishery Management Council (Council), is preparing a draft EA in accordance with the National Environmental Policy Act (NEPA) for each of the following fishery management plans (FMP): The Comprehensive FMP for the Puerto Rico Exclusive Economic Zone (EEZ) (Puerto Rico FMP), the Comprehensive FMP for the St. Thomas/St. John EEZ (St. Thomas/St. John FMP), and the Comprehensive FMP for the St. Croix EEZ (St. Croix FMP). The respective plans would transition the management of Federal fisheries in the U.S. Caribbean EEZ from a species-based approach to an island-based approach. This notice is intended to inform the public of the change from the preparation of a draft EIS to a draft environmental assessment (EA) for each FMP.

FOR FURTHER INFORMATION CONTACT: Sarah Stephenson, NMFS Southeast Regional Office, telephone: 727-824-5305; or email: sarah.stephenson@noaa.gov.

SUPPLEMENTARY INFORMATION: Currently, the Council manages Federal fisheries in the U.S. Caribbean under four species-based FMPs: The FMP for the Reef Fish Fishery of Puerto Rico and the U.S. Virgin Islands (USVI) (Reef Fish FMP); the FMP for the Spiny Lobster Fishery of Puerto Rico and the USVI (Spiny Lobster FMP); the FMP for the Queen Conch Resources of Puerto Rico and the USVI (Queen Conch FMP); and the FMP for Corals and Reef Associated Plants and Invertebrates of Puerto Rico and the USVI (Coral FMP). The fishers, fishing community representatives, and the local governments of Puerto Rico and the USVI requested that the Council consider the differences between the islands or island groups when addressing fisheries management in the U.S. Caribbean EEZ to recognize the unique attributes of each U.S. Caribbean island. By developing island-based FMPs, NMFS and the Council would better account for differences among the U.S. Caribbean islands with respect to culture, markets, gear, seafood preferences, and the ecological impacts that result from these differences.

At its March 2013 meeting, the Council began the process of developing island-based FMPs. The Council preliminarily determined to proceed with FMPs applicable to three U.S. Caribbean EEZ management areas: (1) Puerto Rico; (2) St. Thomas/St. John, USVI; and (3) St. Croix, USVI. If approved, a comprehensive FMP for each of the identified island management areas would replace the existing species-based FMPs. This change in U.S. Caribbean fishery management strategy provides a means to increase the flexibility of fisheries management to the individual characteristics of each of the island management areas.

On June 6, 2013, NMFS published in the Federal Register a notice of intent (NOI) to prepare a draft EIS for each of the three proposed island-based FMPs, the Puerto Rico FMP (78 FR 34041), St. Thomas/St. John FMP (78 FR 34042), and St. Croix FMP (78 FR 34044). Supplemental NOIs were subsequently published on March 11, 2014, and May 12, 2014, for the Puerto Rico FMP (79 FR 13624 and 79 FR 26946), on March 12, 2014, and May 12, 2014, for the St. Thomas/St. John FMP (79 FR 13988 and 79 FR 26949), and on March 10, 2014, and May 12, 2014, for the St. Croix FMP (79 FR 13280 and 79 FR 26947). The supplemental NOIs announced additional opportunity for public comment.

Developing and implementing the Puerto Rico, St. Thomas/St. John, and St. Croix FMPs would transition Federal management in the U.S. Caribbean EEZ from a species-based approach to an island-based approach. Each FMP would incorporate and replace those components of the Caribbean-wide Reef Fish, Spiny Lobster, Queen Conch, and Coral FMPs that pertain to the EEZ surrounding the respective island(s). For each FMP, the actions considered would incorporate existing management measures such as seasonal and area closures and revise other measures such as the species to be managed, stock/stock complex composition, management reference points, accountability measures, description of essential fish habitat for stocks new to Federal management, and updated framework procedures, as deemed necessary by the Council.

NMFS has reassessed the actions in each FMP relative to NEPA and its requirements and has preliminarily determined that the proposed actions would not significantly affect the quality of the human environment and that draft EISs were not required. As a result of this determination, NMFS, in collaboration with the Council, will develop a draft EA for each new FMP rather than proceeding with the development of draft EISs. The Council held public hearings to discuss the actions included in each FMP in Puerto Rico on April 1-3, 2019, in St. Thomas on April 3, 2019, and in St. Croix on April 4, 2019 (84 FR 9099, March 13, 2019), and will also take public comment on the document at the April 2019 Council meeting in San Juan, Puerto Rico. Exact dates, times, and locations of any future public hearings will be announced by the Council and will be posted to their website at: https://www.caribbeanfmc.com/meeting-documents.

NMFS will announce, through a document published in the Federal Register, all public comment periods on the final FMPs, their proposed implementing regulations, and the availability of the associated EAs. NMFS will consider all public comments received, whether they are on the final FMP, the proposed regulations, or the EA, prior to final agency action.

Authority: 16 U.S.C. 1801 et seq.

Dated: April 3, 2019.
Jennifer M. Wallace,
Acting Director, Office of Sustainable Fisheries, National Marine Fisheries Service.

[FR Doc. 2019-06957 Filed 4-8-19; 8:45 am]

BILLING CODE 3510-22-P